FEDERAL COMMUNICATIONS COMMISSION

47 CFR Part 79

[CG Docket No. 05-231; ET Docket No. 99-254; FCC 08-255]

Closed Captioning of Video Programming; Closed Captioning Requirements for Digital Television Receivers

AGENCY: Federal Communications Commission.

ACTION: Final rule; announcement of effective date.

SUMMARY: In this document, the Commission announces that the Office of Management and Budget (OMB) has approved, for a period of three years, the information collection associated with the Commission's Closed Captioning of Video Programming; Closed Captioning Requirements for Digital Television Receivers, Declaratory Ruling and Order (2008 Closed Captioning Order). This notice is consistent with the 2008 Closed Captioning Order, which stated that the Commission would publish a document in the Federal Register announcing the effective date of those rules.

DATES: 47 CFR 79.1(g)(1) through (5), (i), published at 74 FR 1594, January 13, 2009, is effective February 19, 2010. Video programming distributors must comply with 47 CFR 79.1(i) by March 22, 2010.

FOR FURTHER INFORMATION CONTACT: Amelia Brown, Disabilities Rights Office, Consumer and Governmental Affairs Bureau, at (202) 418-2799 (voice) or (202) 418-7804 (TTY).

SUPPLEMENTARY INFORMATION: This document announces that, on July 27, 2009, OMB approved, for a period of three years, the information collection requirements contained in the Commission's 2008 Closed Captioning Order, FCC 08-255, published at 74 FR 1594, January 13, 2009. The OMB Control Number is 3060-0761. The Commission publishes this notice as an announcement of the effective date of the rules. If you have any comments on the burden estimates listed below, or how the Commission can improve the collections and reduce any burdens caused thereby, please contact Cathy Williams, Federal Communications Commission, Room 1-C823, 445 12th Street, SW., Washington, DC 20554. Please include the OMB Control Number, 3060-0761, in your correspondence. The Commission will also accept your comments via the Internet if you send them to PRA@fcc.gov. To request materials in accessible formats for people with disabilities (braille, large print, electronic files, audio format), send an e-mail to fcc504@fcc.gov or call the Consumer and Governmental Affairs Bureau at (202) 418-0530 (voice), (202) 418-0432 (TTY).

Synopsis

As required by the Paperwork Reduction Act of 1995 (44 U.S.C. 3507), the FCC is notifying the public that it received OMB approval on July 27, 2009, for the information collection requirements contained in the Commission's rules at 47 CFR 79.1(g)(1) through (5) and 47 CFR 79.1(i). The OMB Control Number is 3060-0761. The total annual reporting burden for respondents for these collections of information, including the time for gathering and maintaining the collection of information, is estimated to be: 14,283 respondents, 111,247 responses, a total annual hourly burden of 226,452 hours, and $38,283,630 in total annual costs.

Under 5 CFR 1320, an agency may not conduct or sponsor a collection of information unless it displays a current, valid OMB Control Number.

No person shall be subject to any penalty for failing to comply with a collection of information subject to the Paperwork Reduction Act, that does not display a current, valid OMB Control Number. The foregoing notice is required by the Paperwork Reduction Act of 1995, Public Law 104-13, October 1, 1995, and 44 U.S.C. 3507.

Federal Communications Commission.
Marlene H. Dortch,
Secretary.

[FR Doc. 2010-3265 Filed 2-18-10; 8:45 am]

BILLING CODE 6712-01-P